DEPARTMENT OF ENERGY

Federal Energy Regulatory Commission

[Project Nos. 14531-000; 2310-193; 14530-000]

Pacific Gas and Electric Company; Notice of Application Amendment Accepted for Filing and Soliciting Comments and Recommendations

Take notice that the following hydroelectric application has been filed with the Commission and is available for public inspection.

a. Type of Application: Amendment to Application for New Major License.

b. Project No.: P-14531-000.

c. Date filed: May 31, 2013.

d. Applicant: Pacific Gas and Electric Company (PG&E).

e. Name of Project: Lower Drum Project.

The four developments that would be included in the Lower Drum Project are currently part of the existing Drum-Spaulding Project (Project No. 2310-193), which is currently going through the relicensing process.

PG&E has requested that the Commission issue three separate licenses for the 10 developments that currently comprise the Drum-Spaulding Project: (1) Lower Drum Project (Project No. 14531-000) consisting of the Halsey, Wise, Wise No. 2, and Newcastle Developments; (2) Drum-Spaulding Project consisting of the Spaulding No. 3, Spaulding No. 1 and No. 2, Alta, Drum No. 1 and No. 2, and Dutch Flats Developments; and (3) Deer Creek Project (Project No. 14530-000) consisting of the Deer Creek Development (application amendment filed on June 18, 2012).

The separate docketing of these applications corresponds to the applicant's filings. It does not reflect any decision by the Commission as to whether the Lower Drum developments will be licensed separately.

f. Location: The Lower Drum Project would be located on the west slope of the Sierra Nevada in the Bear River Basin in Nevada County, California. The project would occupy 5.3 acres of federal lands managed by the Bureau of Reclamation.

g. Filed Pursuant to: Federal Power Act, 16 U.S.C. 791 (a)-825(r)

h. Applicant Contact: Steve Peirano, Relicensing Project Manager, Pacific Gas and Electric Company, P.O. Box 770000, San Francisco, CA 94177-0001, (415) 973-4481, or email slp2@pge.com.

i. FERC Contact: Alan Mitchnick, (202) 502-6074 or alan.mitchnick@ferc.gov.

j. Deadline for comments and recommendations: August 22, 2013.

Previously filed interventions for P-2310 and interventions filed in response to the Commission's May 17, 2013, Notice of Availability of the Draft Environmental Impact Statement for the Drum-Spaulding and Yuba-Bear Hydroelectric Projects, will apply to P-14530 and P-14531.

Comments and recommendations may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This amendment to PG&E's license application has been accepted for filing and is now ready for environmental analysis.

The Commission is particularly interested in receiving comments on how specific recommendations previously filed under P-2310 and outlined in Attachment 1 of PG&E's May 31, 2013 license application amendment may apply to the separated projects.

l. The Lower Drum Project would have an installed capacity of 39.7 megawatts and would consist of the following developments: (1) Halsey Development consisting of the Bear River canal diversion dam, Bear River canal, Halsey forebay, Halsey penstock, and Halsey powerhouse; (2) Wise Development consisting of the Halsey afterbay, Rock Creek reservoir, Wise canal, and Wise forebay, Wise penstock, and Wise powerhouse; (3) Wise No. 2 Development consisting of Wise No. penstock and Wise No. 2 powerhouses; and (4) Newcastle Development consisting of the South canal, Newcastle powerhouse header box, Newcastle penstock, and one transmission line.

m. A copy of the application amendment is available for review at the Commission in the Public Reference Room or may be viewed on the Commission's Web site at http://www.ferc.gov using the “eLibrary” link. Enter the docket number excluding the last three digits (P-14531) in the docket number field to access the document. For assistance, contact FERC Online Support. A copy is also available for inspection and reproduction at the address in item h above. Register online at http://www.ferc.gov/docs-filing/esubscription.asp to be notified via email of new filings and issuances related to this or other pending projects. For assistance, contact FERC Online Support.

n. Procedural Schedule:

The Lower Drum application will be processed in conjunction with the Yuba-Bear (P-2266-102), Drum-Spaulding (P-2310-193), and Deer Creek (P-14530-000) license applications according to the following revised Hydro Licensing Schedule. Revisions to the schedule may be made as appropriate.

Milestone | Target date
Comments and recommendations on Lower Drum application due | August 22, 2013.
Comments on draft environmental impact statement (EIS) for the Drum-Spaulding and Yuba-Bear Projects due | August 22, 2013.
Modified terms and conditions due | October 21, 2013.
Commission issues final EIS | January 8, 2014.

Dated: July 3, 2013.
Kimberly D. Bose,
Secretary.

[FR Doc. 2013-16563 Filed 7-9-13; 8:45 am]

BILLING CODE 6717-01-P